DEPARTMENT OF LABOR

Employment and Training Administration

[TA-W-65,417]

Virage Logic Corporation, Hampton, NJ; Notice of Termination of Investigation

Pursuant to Section 221 of the Trade Act of 1974, as amended, an investigation was initiated on February 27, 2009 in response to a worker petition filed on behalf of workers at Virage Logic Corporation, Hampton, New Jersey.

The petitioner has requested that the petition be withdrawn. Consequently, the investigation has been terminated.

Signed at Washington, DC this 11th day of March 2009.
Elliott S. Kushner,
Certifying Officer, Division of Trade Adjustment Assistance.

[FR Doc. E9-6308 Filed 3-23-09; 8:45 am]

BILLING CODE 4510-FN-P